NUCLEAR REGULATORY COMMISSION

[Docket Nos. 50-269, 50-270, and 50-287]

Duke Energy Corporation; Notice of Withdrawal of Application for Amendment to Facility Operating License

The U.S. Nuclear Regulatory Commission (NRC, the Commission) has granted the request of Duke Energy Corporation (the licensee) to withdraw its August 26, 2004, application for proposed amendments to Facility Operating License No. DPR-38, DPR-47, and DPR-55, for the Oconee Nuclear Station, Units 1, 2, and 3, located in Seneca County, SC.

The proposed amendment would have revised the Technical Specification 3.3.29 and its associated Bases to accommodate new circuitry that isolates nonsafety portions of the low pressure service water system piping inside containment that supplies the reactor building auxiliary coolers.

The Commission had previously issued a Notice of Consideration of Issuance of Amendment published in the Federal Register on September 28, 2004 (69 FR 57983). However, by letter dated September 29, 2005, the licensee withdrew the proposed change.

For further details with respect to this action, see the application for amendment dated August 26, 2004, and the licensee's letter dated September 29, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

For the Nuclear Regulatory Commission.
Dated at Rockville, Maryland, this 14th day of October 2005.
Leonard N. Olshan,
Sr. Project Manager, Section 1, Project Directorate II, Division of Licensing Project Management, Office of Nuclear Reactor Regulation.

[FR Doc. E5-5798 Filed 10-20-05; 8:45 am]

BILLING CODE 7590-01-P